DEPARTMENT OF THE INTERIOR

Bureau of Land Management

[NV-050-04-1610-DR-241E]

Notice of Availability of Record of Decision for the NTTR Resource Management Plan (RMP)/Environmental Impact Statement (EIS)

AGENCY: Bureau of Land Management, Interior.

ACTION: Notice of availability.

SUMMARY: In accordance with the National Environmental Policy Act (NEPA), the Federal Land Policy and Management Act (FLPMA), and the Bureau of Land Management (BLM) management policies and Public Law 106-65, the BLM announces the availability of the RMP/ROD for the Nevada Test and Training Range (NTTR) Resource Management Plan (RMP)/Environmental Impact Statement (EIS), located in the Las Vegas Field Office area of administration. The Nevada State Director will sign the RMP/ROD, which becomes effective immediately.

ADDRESSES: Copies of the NTTR RMP/ROD are available upon request from the Field Manager, Las Vegas Field Office, Bureau of Land Management, 4701 North Torrey Pines Drive, Las Vegas, Nevada, 89130 or via the Internet at http://www.nv.blm.gov/vegas, provided Internet access is available.

FOR FURTHER INFORMATION CONTACT: Jeffrey G. Steinmetz at 4701 North Torrey Pines Drive, Las Vegas, NV 89130, 702-515-5097, jsteinme@nv.blm.gov.

SUPPLEMENTARY INFORMATION: The NTTR RMP/ROD was developed with broad public participation through a 3 year collaborative planning process. BLM completed six scoping meetings and four public comment meetings prior to releasing the Proposed RMP/FEIS. In addition, BLM extensively coordinated with the Military to ensure all safety and mission operation concerns were resolved. After this coordination was completed the Military and BLM supported the Proposed RMP/FEIS, as written. This RMP/ROD addresses management on approximately 1.5 million acres of withdrawn public land in the planning area. The NTTR RMP/ROD is designed to achieve or maintain desired future conditions developed through the planning process. It includes a series of management actions to meet the desired resource conditions for upland and riparian vegetation, wildlife habitats, cultural and visual resources, wild horse management, livestock grazing, limited hunting recreation and military mission and safety objectives.

The approved NTTR RMP is essentially the same as Alternative B in the Proposed NTTR RMP/Final Environmental Impact Statement (PRMP/FEIS), published in May 2003. The primary difference being, the Military and BLM agreed to an Appropriate Management Level (AML) of 300-500 for wild horses. The Military felt comfortable that this lower number of horses would significantly reduce mission and safety concerns and still allow management of wild horses on the NTTR. BLM received 1 protest to the PRMP/FEIS. No inconsistencies with State or local plans, policies, or programs were identified during the Governor's consistency review of the PRMP/FEIS. As a result, only minor editorial modifications were made in preparing the RMP/ROD. These modifications corrected errors that were noted during review of the PRMP/FEIS and provide further clarification for some of the decisions. An errata sheet is included with the RMP/ROD that identifies the location of the corrections in the PRMP/FEIS.

Dated: March 29, 2004.
Mark T. Morse,
Field Manager Las Vegas.

[FR Doc. 04-16854 Filed 7-22-04; 8:45 am]

BILLING CODE 4310-HK-P